DEPARTMENT OF TRANSPORTATION

Federal Motor Carrier Safety Administration

Solicitation of Applications for Fiscal Year (FY) 2008 Motor Carrier Safety Assistance Program (MCSAP) High Priority and New Entrant Grant Funding

AGENCY: Federal Motor Carrier Safety Administration (FMCSA), DOT.

ACTION: Notice.

SUMMARY: FMCSA announces that it has published an opportunity to apply for FY2008 MCSAP High Priority and New Entrant grant funding on the grants.gov Web site (http://www.grants.gov).

DATES: FMCSA will initially consider funding of applications submitted by January 5, 2008 by qualified applicants. If additional funding remains available, applications submitted after January 5, 2008 will be considered on a case-by-case basis. Funds will not be available for allocation until such time as FY2008 appropriations legislation is passed and signed into law. Funding is subject to reductions resulting from obligation limitations or rescissions as specified in SAFETEA-LU or other legislation.

FOR FURTHER INFORMATION CONTACT: Mr. Jack Kostelnik, Federal Motor Carrier Safety Administration, Office of Safety Programs, State Programs Division (MC-ESS), 202-366-5721, 1200 New Jersey Avenue, SE., Washington, DC 20590. Office hours are from 7:30 a.m. to 4 p.m., EST., Monday through Friday, except Federal holidays.

SUPPLEMENTARY INFORMATION: Section 4101 of SAFETEA-LU (Public Law 109-59, August 10, 2005, 119 Stat. 1144) amends 49 U.S.C. 31104(a) and authorizes the Motor Carrier Safety Grants funding for FY2006 through FY2009. The expected level of funding for MCSAP is $202,000,000 for FY2008, which includes up to $15,000,000 for High Priority grants and up to $29,000,000 for New Entrant Safety Audits. High priority funds are available for activities conducted by State agencies, local governments, and organizations representing government agencies that use and train qualified officers and employees in coordination with State motor vehicle safety agencies. Funds are allocated in accordance with the provisions of 49 CFR 350.313 and 49 CFR 350.319. Further, FMCSA will reserve $5 million in FY2008 high priority funding exclusively for traffic enforcement projects, with particular emphasis on work zone enforcement and other selective traffic enforcement programs. States and local governments are eligible to apply for New Entrant funds. Funds are allocated in accordance with the provisions of 49 CFR 350.313 and 49 CFR 350.321. All applicants must submit an electronic application package through grants.gov. To apply using the grants.gov process, the applicant must be registered with grants.gov. To register, go to http://www.grants.gov/applicants/get_registered.jsp. The applicant must download the grant application package, complete the grant application package, and submit the completed grant application package. This can be done on the Internet at http://www.grants.gov/applicants/apply_for_grants.jsp. The CFDA number for MCSAP is 20.218.

Issued on: October 10, 2007.
William A. Quade,
Associate Administrator for Enforcement and Program Delivery.

[FR Doc. E7-22187 Filed 11-13-07; 8:45 am]

BILLING CODE 4910-EX-P